DEPARTMENT OF THE INTERIOR

Fish and Wildlife Service

[FWS-R4-ES-2019-N029; FXES11130400000EA-123-FF04EF1000]

Receipt of Incidental Take Permit Application and Proposed Habitat Conservation Plan for the Alabama Beach Mouse, Baldwin County, AL; Categorical Exclusion

AGENCY: Fish and Wildlife Service, Interior.

ACTION: Notice of availability; request for comment and information.

SUMMARY: We, the Fish and Wildlife Service (Service), announce receipt of an application from Michael McKoy (applicant) for an incidental take permit (ITP) under the Endangered Species Act. The applicant requests the ITP to take the federally listed Alabama beach mouse incidental to construction in Baldwin County, Alabama. We request public comment on the application, which includes the applicant's proposed habitat conservation plan (HCP), and the Service's preliminary determination that this HCP qualifies as “low-effect,” categorically excluded, under the National Environmental Policy Act. To make this determination, we used our environmental action statement and low-effect screening form, both of which are also available for public review.

DATES: We must receive your written comments on or before April 10, 2020.

ADDRESSES: Obtaining documents: Documents are available for public inspection by appointment during regular business hours at either of the following locations or by email:

• Atlanta Regional Office, Ecological Services, U.S. Fish and Wildlife Service, 1875 Century Boulevard, Atlanta, GA 30345.

• Alabama Ecological Services Office, U.S. Fish and Wildlife Service, 1208 Main Street, Daphne, AL 36526.

• Email a request to William_Lynn@fws.gov, please reference TE46613D-0 in the subject line.

Submitting comments: If you wish to submit comments on any of the documents, you may do so in writing by either of the following methods. Please reference TE46613D-0 in all comments.

U.S. mail: You may mail comments to either of the Fish and Wildlife Service Offices listed above.

Hand-delivery: You may hand-deliver comments to either of the Fish and Wildlife Service Offices listed above.

Email: You may email comments to david_dell@fws.gov. Please include your name and email address in your email. If you do not receive an email from us confirming that we have received your message, contact us directly at either telephone number in FOR FURTHER INFORMATION CONTACT.

FOR FURTHER INFORMATION CONTACT: David Dell, Regional HCP and Safe Harbors Coordinator, at the Atlanta Regional Office (see ADDRESSES), or by telephone at 404-679-7313, or Mr. William Lynn, Project Manager, at the Alabama Ecological Services Office (see ADDRESSES), or by telephone at 251-441-5868. If you use a telecommunications device for the deaf (TDD), please call the Federal Relay Service at 800-877-8339.

SUPPLEMENTARY INFORMATION: We, the Fish and Wildlife Service, announce receipt of an application from Michael McKoy (applicant) for an incidental take permit (ITP) under the Endangered Species Act of 1973, as amended (ESA; 16 U.S.C. 1531 et seq.). The applicant requests to take the federally listed Alabama beach mouse (Peromyscus polionotus ammobates; ABM) incidental to the construction of a single-family home (project) in Baldwin County, Alabama. We request public comment on the application, which includes the applicant's proposed habitat conservation plan (HCP) and the Service's preliminary determination that this HCP qualifies as “low-effect,” categorically excluded, under the National Environmental Policy Act (NEPA; 42 U.S.C. 4231 et seq.) To make this determination, we used our environmental action statement and low-effect screening form, both of which are also available for public review.

Project

The applicant requests a 50-year ITP to take Alabama beach mice incidental to the conversion of approximately 0.18 acres of occupied Alabama beach mouse habitat to construct a single-family home on a 0.74-acre lot in Baldwin County, Alabama. The applicant proposes to implement standard ABM minimization and mitigation measures to mitigate for take of the species. The standard mitigation and minimization measures include reducing the construction footprint to the maximum extent possible, installing sea turtle-friendly exterior lighting and tinted windows, planting landscaping with native vegetation, and constructing a driveway with materials that will not disperse in a storm surge. The applicant will utilize refuse control measures during construction, as well as restore ABM habitat after tropical storms, and future residents also would be required implement such measures. Free-roaming cats and the use of exterior rodenticide also would be prohibited on the parcel. Prior to engaging in any project activities, the applicant will contribute an in-lieu fee of $2.30-per-square-foot of impacts to the Alabama Coastal Heritage Trust. The fee will be utilized by the Bon Secour National Wildlife Refuge to monitor the ABM or enhance the species' habitat within the refuge.

Public Availability of Comments

Before including your address, phone number, email address, or other personal identifying information in your comment, be aware that your entire comment, including your personal identifying information may be made available to the public. While you may request that we withhold your information, we cannot guarantee that we will be able to do so.

Our Preliminary Determination

The Service has made a preliminary determination that the applicant's project, including land clearing, infrastructure building, landscaping, and proposed mitigation and minimization measures, would individually and cumulatively have a minor or negligible effect on the Alabama beach mouse and the environment. Therefore, we have preliminarily concluded that the ITP for this project would qualify for categorical exclusion as well as that the HCP is low effect under our NEPA regulations at 43 CFR 46.205 and 46.210. A low-effect HCP is one that would result in (1) minor or negligible effects on federally listed, proposed, and candidate species and their habitats; (2) minor or negligible effects on other environmental values or resources; and, (3) impacts that, when considered together with the impacts of other past, present, and reasonably foreseeable similarly situated projects, would not over time result in significant cumulative effects to environmental values or resources.

Next Steps

The Service will evaluate the application and the comments received to determine whether to issue the requested permit. We will also conduct an intra-Service consultation pursuant to section 7 of the ESA to evaluate the effects of the proposed take. After considering the preceding findings, we will determine whether the permit issuance criteria of section 10(a)(l)(B) of the ESA have been met. If met, the Service will issue ITP number TE46613D-0 to the applicant Michael McKoy.

Authority

The Service provides this notice under section 10(c) (16 U.S.C. 1539(c)) of the ESA and NEPA regulation 40 CFR 1506.6.

William J. Pearson,
Field Supervisor, Alabama Field Office.

[FR Doc. 2020-04958 Filed 3-10-20; 8:45 am]

BILLING CODE 4333-15-P